COMMISSION ON CIVIL RIGHTS

Notice of Public Meeting of the Nevada State Advisory Committee

AGENCY: U.S. Commission on Civil Rights.

ACTION: Announcement of public meeting.

DATES: Thursday, October 27, 2016.

Time: 1:00 p.m.-2:00 p.m. (PST).

SUMMARY: Notice is hereby given, pursuant to the provisions of the rules and regulations of the U.S. Commission on Civil Rights (Commission) and the Federal Advisory Committee Act (FACA) that a meeting of the Nevada State Advisory Committee (Committee) to the Commission will be held at 1:00 p.m. (Pacific Time) Thursday, October 27, 2016, for the purpose discussing civil rights issues in the state and deliberating on a topic of study.

DATES: The meeting will be held on Thursday, October 27, 2016, at 1:00 p.m. PST.

Public Call Information:

Dial: 888-296-4215

Conference ID: 3627025

FOR FURTHER INFORMATION CONTACT: Angelica Trevino at atrevino@usccr.gov or (213) 894-3437.

SUPPLEMENTARY INFORMATION: This meeting is available to the public through the following toll-free call-in number: 888-296-4215, conference ID number: 3627025. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to make comments during the open period at the end of the meeting. Members of the public may also submit written comments; the comments must be received in the Regional Programs Unit within 30 days following the meeting. Written comments may be mailed to the Regional Programs Unit, U.S. Commission on Civil Rights, 55 W. Monroe St., Suite 410, Chicago, IL 60603. They may be faxed to the Commission at (312) 353-8324, or emailed to David Mussatt, Regional Programs Unit at dmussatt@usccr.gov. Persons who desire additional information may contact the Regional Programs Unit at (312) 353-8311.

Records and documents discussed during the meeting will be available for public viewing prior to and after the meeting at http://facadatabase.gov/committee/meetings.aspx?cid=261.Please click on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

I. Introductions—Wendell Blaylock, Chair of the Nevada Advisory Committee

II. Discussion of Civil Rights Issues in Nevada—Member of the Nevada Advisory Committee

III. Public Comment

IV. Adjournment

Dated: September 20, 2016.
David Mussatt,
Supervisory Chief, Regional Programs Unit.

[FR Doc. 2016-22965 Filed 9-22-16; 8:45 am]

BILLING CODE P